DEPARTMENT OF ENERGY

Federal Energy Regulatory Commission

[Docket No. CP24-512-000]

Texas Connector Pipeline LLC; Notice of Availability of the Environmental Assessment for the Proposed Texas Connector Amendment Project

The staff of the Federal Energy Regulatory Commission (FERC or Commission) has prepared an environmental assessment (EA) for the Texas Connector Amendment Project (Amendment Project), proposed by Texas Connector Pipeline LLC (Texas Connector) in the above-referenced docket. Texas Connector proposes to amend the Commission's authorization for the Texas Connector Project and to construct and operate the amended project facilities in Jefferson and Orange Counties, Texas.

The Texas Connector Project (Docket No. CP17-21-000), together with the Port Arthur Liquefaction Project (Docket No. CP17-20-000), and the Louisiana Connector Project (Docket No. CP18-7-000), was approved by the Commission on April 18, 2019. On May 25, 2023, the Commission issued an Order in Docket Nos. CP17-21-003, CP23-78-000, and CP23-79-000, authorizing the transfer of the certificated Texas Connector Project from Port Arthur Pipeline, LLC to Texas Connector. Texas Connector further evaluated the project and proposes modifications as part the Amendment Project to implement construction efficiencies and to enhance the overall constructability.

The Amendment Project includes the following modifications to the previously authorized project.

• The Southern Compressor Station would not be constructed, and the original site of the Southern Compressor Station would be utilized for a laydown yard and access road.

• The southern pipeline segment (Southern Segment) would decrease in length from 7.6 miles to 1.4 miles.

• Compression at the Northern Compressor Station (renamed Orangefield Compressor Station) would increase from three natural gas-driven turbine compressors rated at 16,684 horsepower (hp) each, to four compressors rated at approximately 24,009 hp each.

• The footprint and configuration of the Orangefield Compressor Station would shift slightly northwest and increase in size from 40 acres to 82.4 acres.

• The northern pipeline segment (Northern Segment) would increase in length from 26.6 miles to 29.6 miles and include several modifications to the alignment and workspace to accommodate landowner requests and development within the previously authorized right-of-way.

• Texas Connector proposes to use Big Hill Bayou, Taylor Bayou, and South Mansfield Ferry Road Canal as water access routes. Big Hill Bayou would require dredging to facilitate vessel transit.

• The KMPL Meter Station would not be constructed.

The Commission mailed a copy of the Notice of Availability to federal, state, and local government representatives and agencies; elected officials; environmental and public interest groups; Native American tribes; potentially affected landowners and other interested individuals and groups; and newspapers and libraries in the project area. The EA is only available in electronic format. It may be viewed and downloaded from the FERC's website (www.ferc.gov), on the natural gas environmental documents page (https://www.ferc.gov/industries-data/natural-gas/environment/environmental-documents). In addition, the EA may be accessed by using the eLibrary link on the FERC's website. Click on the eLibrary link (https://elibrary.ferc.gov/eLibrary/search), select “General Search” and enter the docket number in the “Docket Number” field, excluding the last three digits (i.e., CP24-512). Be sure you have selected an appropriate date range. For assistance, please contact FERC Online Support at FercOnlineSupport@ferc.gov or toll free at (866) 208-3676, or for TTY, contact (202) 502-8659.

The EA is not a decision document. It presents Commission staff's independent analysis of the environmental issues for the Commission to consider when addressing the merits of all issues in this proceeding. Any person wishing to comment on the EA may do so. Your comments should focus on the EA's disclosure and discussion of potential environmental effects, reasonable alternatives, and measures to avoid or lessen environmental impacts. The more specific your comments, the more useful they will be. To ensure that the Commission has the opportunity to consider your comments prior to making its decision on this project, it is important that we receive your comments in Washington, DC, on or before 5 p.m. Eastern Time on April 21, 2025.

For your convenience, there are three methods you can use to file your comments to the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can also file your comments electronically using the eFiling feature on the Commission's website (www.ferc.gov) under the link to FERC Online. With eFiling, you can provide comments in a variety of formats by attaching them as a file with your submission. New eFiling users must first create an account by clicking on “eRegister.” You must select the type of filing you are making. If you are filing a comment on a particular project, please select “Comment on a Filing”; or

(3) You can file a paper copy of your comments by mailing them to the Commission. Be sure to reference the project docket number (CP24-512) on your letter. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852.

Filing environmental comments will not give you intervenor status, but you do not need intervenor status to have your comments considered. Only intervenors have the right to seek rehearing or judicial review of the Commission's decision. At this point in this proceeding, the timeframe for filing timely intervention requests has expired. Any person seeking to become a party to the proceeding must file a motion to intervene out-of-time pursuant to Rule 214(b)(3) and (d) of the Commission's Rules of Practice and Procedures (18 CFR 385.214(b)(3) and (d)) and show good cause why the time limitation should be waived. Motions to intervene are more fully described at https://www.ferc.gov/how-intervene.

Additional information about the project is available from the Commission's Office of External Affairs, at (866) 208-FERC, or on the FERC website (www.ferc.gov) using the eLibrary link. The eLibrary link also provides access to the texts of all formal documents issued by the Commission, such as orders, notices, and rulemakings.

The Commission's Office of Public Participation (OPP) supports meaningful public engagement and participation in Commission proceedings. OPP can help members of the public, including landowners, community organziations, Tribal members and others, access publicly available information and navigate Commission processes. For public inquiries and assistance with making filings such as interventions, comments, or requests for rehearing, the public is encouraged to contact OPP at (202) 502-6595 or OPP@ferc.gov.

In addition, the Commission offers a free service called eSubscription which allows you to keep track of all formal issuances and submittals in specific dockets. This can reduce the amount of time you spend researching proceedings by automatically providing you with notification of these filings, document summaries, and direct links to the documents. Go to https://www.ferc.gov/ferc-online/overview to register for eSubscription.

Dated: March 21, 2025.
Debbie-Anne A. Reese,
Secretary.

[FR Doc. 2025-05311 Filed 3-27-25; 8:45 am]

BILLING CODE 6717-01-P